DEPARTMENT OF LABOR

Employment and Training Administration

[TA-W-39,593]

Muruta Electronics, North America Inc., State College Operations, State College, PA; Notice of Negative Determination Regarding Application for Reconsideration

By application dated March 5, 2002, the workers requested administrative reconsideration of the Department's negative determination regarding eligibility to apply for Trade Adjustment Assistance (TAA), applicable to workers and former workers of the subject firm. The denial notice was signed on February 20, 2002, and published in the Federal Register on March 5, 2002 (67 FR 9324).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Muruta Electronics, North America Inc., State College Operations, State College, Pennsylvania was denied because the “contributed importantly” group eligibility requirement of section 222(3) of the Trade Act of 1974, as amended, was not met. The “contributed importantly” test is generally demonstrated through a survey of customers of the workers' firm. The survey revealed that none of the respondents increased their purchases of imported capacitors, while decreasing their purchases from the subject firm during the relevant period. The investigation further revealed that the subject firm decreased their purchases of imported capacitors during the relevant period.

The petitioner believes that the company shifted a meaningful portion of plant capacitor production to a foreign source, and is importing the capacitors back to the State College plant.

A review of the data supplied by the company during the initial investigation shows that company capacitors imports declined during the relevant period. In fact, the imports declined at a greater rate than the capacitor production at the subject plant.

The petitioner also feels that the survey results may not reflect accurate reported customer capacitor imports, since customers may not know if the capacitors they purchased were produced at the subject firm or produced in a foreign country.

One customer reported that they were not sure if the capacitors purchased from the subject firm were produced domestically or imported. That customer, however, estimated the amounts they believed were imported during the specified periods of the survey. That respondent and the other respondent(s) reported capacitor imports declined sharply during the relevant period.

Further review shows that aggregate U.S. imports of capacitors declined sharply in 2001 over the corresponding 2000 period, followed by further steep declines during the January through February 2002 period over the corresponding 2001 period.

Based on the declining import factors discussed above, imports did not “contribute importantly” to the declines in employment at the subject firm.

Conclusion

After review of the application and investigative findings, I conclude that there has been no error or misinterpretation of the law or of the facts which would justify reconsideration of the Department of Labor's prior decision. Accordingly, the application is denied.

Signed at Washington, DC, this 6th day of May, 2002.
Edward A. Tomchick,
Director, Division of Trade Adjustment Assistance.

[FR Doc. 02-13538 Filed 5-29-02; 8:45 am]

BILLING CODE 4510-30-P